ENVIRONMENTAL PROTECTION AGENCY

[Docket No. RCRA-2003-0014; FRL-7648-6]

Announcement of a Public Stakeholder Meeting Concerning the Hazardous Waste Generator Regulatory Program

AGENCY: Environmental Protection Agency (EPA).

ACTION: Notice of a public stakeholder meeting.

SUMMARY: EPA's Office of Solid Waste is holding a series of public meetings in May 2004 to obtain input from its many stakeholders on the effectiveness of the Resource Conservation and Recovery Act's (RCRA's) hazardous waste generator regulatory program. Concurrent with this effort, the Agency intends to issue an Advanced Notice of Proposed Rulemaking (ANPRM) seeking comment on a series of questions related to the RCRA hazardous waste generator regulatory program. With the information collected from these two efforts, we will evaluate and determine whether changes to the hazardous waste generator program are appropriate and, if so, develop and implement a program strategy with the goals of fostering: improved program effectiveness; a pollution prevention stewardship philosophy; and decrease compliance cost where practicable.

The following topics are planned for discussion:

1. What areas of the generator program are working well?

2. How can we improve the program through the use of innovative solutions and improved technical assistance?

3. How can we improve the program through better performance measurements, burden reductions and pollution prevention/recycling?

Additional detail can be found under Tentative Agenda. A tentative agenda is on the Web at: http://www.epa.gov/epaoswer/hazwaste/gener/init/index.htm.

Interested parties may choose to attend the meeting, submit written comment, or both. Oral comments will be limited to two minutes each.

DATES: The stakeholder meetings are scheduled for 9 a.m.-5 p.m. local time:

May 4, 2004, Boston, MA; May 13, 2004, Washington, DC; May 17, 2004, Chicago, IL; May 24, 2004, Seattle, WA. Submit written comments on or before June 30, 2004.

ADDRESSES: Boston, MA, Tip O'Neil Federal Building, 10 Causeway Street, Boston, MA 02222, May 4, 2004;

Washington DC, U.S. Environmental Protection Agency—East Building, Room 1153, 1201 Constitution Avenue, NW., May 13, 2004;

Chicago, IL, Metcalfe Federal Building, Morrison Conference Room 331, 77 W. Jackson, May 17, 2004;

Seattle, WA, Radisson Hotel Seattle Airport, 17001 Pacific Highway South, May 24, 2004.

Written comments may be submitted electronically, by mail, or through hand delivery/courier. Follow the detailed instructions as provided in section I.C. of the SUPPLEMENTARY INFORMATION section.

FOR FURTHER INFORMATION CONTACT: Further information may be found at: http://www.epa.gov/epaoswer/hazwaste/gener/init/index.htm. If you do not have access to the Web, contact the RCRA Call Center at 800 424-9346 or TDD 800 553-7672 (hearing impaired). In the Washington, DC, metropolitan area, call 703 412-9810 or TDD 703 412-3323. You may also contact Jim O'Leary, Office of Solid Waste (5304W), Environmental Protection Agency, 1200 Pennsylvania Avenue, NW., Washington, DC 20460; telephone number: (703) 308-8827; fax number: (703) 308-0514.

SUPPLEMENTARY INFORMATION:

I. General Information

A. Does This Meeting Apply to Me?

While the meeting is open to the public in general, the identified topics may be of particular interest to persons who are hazardous waste generators or associations that represent hazardous waste generators or persons who are concerned about the implementation of the Resource Conservation and

Recovery Act's (RCRA) hazardous waste generator program. Potentially interested parties may include but are not limited to: hazardous waste generators, trade associations representing hazardous waste generators, federal or state officials involved with implementing the hazardous waste generator regulatory program, concerned citizens, and environmental organizations. If you have any questions regarding the applicability of this meeting to a particular entity, consult the information listed under FOR FURTHER INFORMATION CONTACT.

B. How Can I Get Electronic Access to This Document and Other Related Information?

1. Docket. EPA has established an official public docket for this action under Docket ID No. RCRA-2003-0014. The official public docket consists of the documents specifically referenced in this action, any public comments received, and other information related to this action. Although a part of the official docket, the public docket does not include Confidential Business Information (CBI) or other information whose disclosure is restricted by statute. Documents in the official public docket are listed in the index list in EPA's electronic public docket and comment system, EDOCKET. Documents may be available either electronically or in hard copy. Electronic documents may be viewed through EDOCKET. Hard copy documents may be viewed at the EPA Docket Center, (EPA/DC) EPA West, Room B102, 1301 Constitution Ave., NW., Washington, DC. The EPA Docket Center Public Reading Room is open from 8:30 a.m. to 4:30 p.m., Monday through Friday, excluding legal holidays. The telephone number for the Reading Room is (202) 566-1742, and the telephone number for the EPA Docket Center is (202) 566-0270.

2. Electronic Access. You may access this Federal Register document electronically through the EPA Internet under the “ Federal Registe---” listings at http://www.epa.gov/fedrgstr/. You may also go to the federal-wide eRulemaking site at http://www.regulations.gov.

An electronic version of the public docket is available through EPA's electronic public docket and comment system, EDOCKET. You may use EDOCKET at http://www.epa.gov/edocket/ to submit or view public comments, access the index listing of the contents of the official public docket, and to access those documents in the public docket that are available electronically. Once in the system, select “search,” then key in the appropriate docket identification number. Certain types of information will not be placed in EDOCKET.

Information claimed as CBI and other information whose disclosure is restricted by statute, which is not included in the official public docket, will not be available for public viewing in EPA's electronic public docket. EPA's policy is that copyrighted material will not be placed in EPA's electronic public docket but will be available only in printed, paper form in the official public docket. To the extent feasible, publicly available docket materials will be made available in EPA's electronic public docket. When a document is selected from the index list in EDOCKET, the system will identify whether the document is available for viewing in EPA's electronic public docket. Publicly available docket materials that are not available electronically may be viewed at the docket facility identified in section I.B.

For public commenters, it is important to note that EPA's policy is that public comments, whether submitted electronically or in paper, will be made available for public viewing in EPA's electronic public docket as EPA receives them and without change, unless the comment contains copyrighted material, CBI, or other information whose disclosure is restricted by statute. When EPA identifies a comment containing copyrighted material, EPA will provide a reference to that material in the version of the comment that is placed in EPA's electronic public docket. The entire printed comment, including the copyrighted material, will be available in the public docket.

Public comments submitted on computer disks that are mailed or delivered to the docket will be transferred to EPA's electronic public docket. Public comments that are mailed or delivered to the Docket will be scanned and placed in EPA's electronic public docket. Where practical, physical objects will be photographed, and the photograph will be placed in EPA's electronic public docket along with a brief description written by the docket staff.

C. How and to Whom Do I Submit Comments?

You may submit comments electronically, by mail, or through hand delivery/courier. To ensure proper receipt by EPA, identify the appropriate docket identification number in the subject line on the first page of your comment. Please ensure that your comments are submitted within the specified comment period. Comments received after the close of the comment period will be marked “late.” EPA is not required to consider these late comments. However, late comments may be considered if time permits.

1. Electronically. If you submit an electronic comment as prescribed below, EPA recommends that you include your name, mailing address, and an e-mail address or other contact information in the body of your comment. Also include this contact information on the outside of any disk or CD ROM you submit, and in any cover letter accompanying the disk or CD ROM. This ensures that you can be identified as the submitter of the comment and allows EPA to contact you in case EPA cannot read your comment due to technical difficulties or needs further information on the substance of your comment. EPA's policy is that EPA will not edit your comment, and any identifying or contact information provided in the body of a comment will be included as part of the comment that is placed in the official public docket, and made available in EPA's electronic public docket. If EPA cannot read your comment due to technical difficulties and cannot contact you for clarification, EPA may not be able to consider your comment.

i. EPA Dockets. Your use of EPA's electronic public docket to submit comments to EPA electronically is EPA's preferred method for receiving comments. Go directly to EDOCKET at http://www.epa.gov/edocket, and follow the online instructions for submitting comments. To access EPA's electronic public docket from the EPA Internet Home Page, select “Information Sources,” “Dockets,” and “EDOCKET.” Once in the system, select “search,” and then key in Docket ID No. RCRA-2003-0014. The system is an “anonymous access” system, which means EPA will not know your identity, e-mail address, or other contact information unless you provide it in the body of your comment.

ii. E-mail. Comments may be sent by electronic mail (e-mail) to rcra-docket@epa.gov, Attention Docket ID No. RCRA 2003-0014. In contrast to EPA's electronic public docket, EPA's email system is not an “anonymous access” system. If you send an e-mail comment directly to the docket without going through EPA's electronic public docket, EPA's e-mail system automatically captures your e-mail address. E-mail addresses that are automatically captured by EPA's e-mail system are included as part of the comment that is placed in the official public docket, and made available in EPA's electronic public docket.

iii. Disk or CD ROM. You may submit comments on a disk or CD ROM that you mail to the mailing address identified in section 1.C.2. These electronic submissions will be accepted in WordPerfect or ASCII file format. Avoid the use of special characters and any form of encryption.

2. Mail. Send your comments to: OSWER Docket, EPA Docket Center, Environmental Protection Agency, Mail Code: 5305T, 1200 Pennsylvania Ave., NW., Washington, DC 20460, Attention Docket ID No. RCRA-2003-0014.

3. By Hand Delivery or Courier. Deliver your comments to: OSWER Docket, EPA Docket Center, 1301 Constitution Avenue, NW., EPA West Building, Room B-102, Washington, DC 20004, Attention Docket ID No. RCRA-2003-0014. Such deliveries are only accepted during the Docket's normal hours of operation as identified in section I.B.1.

II. Background

In 1980, the Agency promulgated regulations applicable to generators of hazardous waste. EPA amended the regulations in 1986 to address small quantity generators and again in the late 1980's and early 1990's to address land disposal restrictions and air emission control requirements for generators, respectively. These regulations are found at 40 CFR 261.5 and 40 CFR part 262. The regulations establish procedures and requirements for the management of hazardous waste on-site and off-site for both large and small quantity generators (LQGs and SQGs), as well as conditionally exempt small quantity generators (CESQGs).

The implementation of the generator regulations has played a major role in ensuring that hazardous waste has been properly managed. However, during the twenty years since their promulgation, generators and s have developed a great deal of experience with this program. These experiences have been both positive and challenging. On the positive side, thousands of generators instituted programs that successfully prevent spills and accidents and ensure the safe management of hazardous waste. EPA and the s developed effective training, compliance and technical assistance programs that support hazardous waste generators.

These successes, however, have not come without challenges. Stakeholders tell us that they find the RCRA hazardous waste generator regulatory program to be very complex. Some generators believe the regulations are confusing. This may be particularly true for small businesses who often do not have the in-house capabilities or resources to devote to understanding and complying with the hazardous waste regulations. In other cases, EPA has heard that some hazardous waste generator regulations duplicate other federal regulations. Some stakeholders, conversely, are concerned that gaps may exist in the current regulations that could impede the safe management of hazardous waste.

With these challenges as background, the objective of the public meetings is collect pertinent information from key stakeholders that will allow EPA to evaluate the effectiveness of the hazardous waste generator regulatory program and to determine if changes to the program are necessary. If so, EPA will develop and implement a hazardous waste generator program strategy with the goals of fostering improved program effectiveness, fostering a pollution prevention stewardship philosophy, and reducing compliance cost, where practicable.

(Note: This effort focuses only on the generator regulations in 40 CFR 261.5 and 40 CFR part 262, and the management requirements in 40 CFR part 265 referenced in the generator regulations. We are not addressing issues associated with the definition of solid waste, hazardous waste identification regulations associated with listings and characteristics, or export provisions.)

III. Tentative Agenda

Copies of the tentative agenda for this meeting are available on the Web at: http://www.epa.gov/epaoswer/hazwaste/gener/init/index.htm, via mail, fax, or email. If you would like a copy, please go to the website or use the contact information listed under FOR FURTHER INFORMATION CONTACT.

IV. How Can I Participate in This Meeting?

You may attend this meeting in person or submit a written comment. Attendance will be limited by the capacity of the meeting rooms as follows: Boston, MA—250 people; Washington, DC—136 people; Chicago, IL—300 people; and Seattle, WA—250 people. Members of the public wishing to have access to the meeting rooms on the day of the meeting should register no later than one week before the date of the meeting you wish to attend. You may register on the Web at http://www.epa.gov/epaoswer/hazwaste/gener/init/index.htm. If you do not have access to the web you may contact the RCRA Call Center at 800 424-9346 or TDD 800 553-7672 (hearing impaired). In the Washington, DC, metropolitan area, call 703 412-9810 or TDD 703 412-3323. For meetings held in federal or public facilities, visitors will be asked to show photo identification, will be screened through security equipment, and will be escorted to the meeting room from the security check-in. Please leave sufficient time to check with security when you arrive at the meeting location.

Any person needing special accessibility accommodations for this meeting should so indicate on the registration form on the web or contact the Call Center identified above at least five business days prior to the meeting you wish to attend so we can make the appropriate arrangements. Any person who wishes to file a written statement may do so by June 30, 2004. EPA has established an official public docket for this action under Docket ID No. RCRA-2003-0014. Please see section I.C. for instructions on how to submit written comments.

V. On What Topics and Questions Will EPA Be Soliciting Input?

1. What areas of the generator program are working well?

A. Is the existing hazardous waste generator program meeting its goals of protecting human health and the environment?

B. What parts of the program work effectively and why?

2. How can we improve the program through the use of innovative solutions and improved technical assistance?

A. What parts of the program can be improved? What are some workable solutions? What benefits would be derived from these potential solutions?

B. Are there any new management techniques; e.g., environmental management systems, or technologies; e.g., better use of information management systems, that lend themselves to improving the existing regulatory framework? What would be the benefits to the program if adopted?

C. What, if any, state hazardous waste regulations, interpretations or implementation programs should EPA review and evaluate in order to improve or clarify the federal regulations?

D. How can EPA and the states improve their compliance and technical assistance activities to hazardous waste generators?

3. How can we improve the program through better performance measurements, burden reductions and pollution prevention/recycling?

A. What measures should the program use to most effectively capture the environmental benefits of the hazardous waste generator regulatory program?

B. Are there areas where we can achieve further reporting/paperwork burden reduction while allowing EPA to measure environmental results?

C. How can EPA encourage generators to practice pollution prevention and recycling?

A tentative agenda is available. If you would like a copy, please go to the Web site or use the contact information listed under FOR FURTHER INFORMATION CONTACT. Be advised that there may be slight changes to the agenda either in content or duration, so please check the Web site before attending the meeting for the latest information.

James R. Berlow.
Acting Office Director, Office of Solid Waste.

[FR Doc. 04-8675 Filed 4-15-04; 8:45 am]

BILLING CODE 6560-50-P